Title 3—

The President

Proclamation 7791 of May 26, 2004

Prayer for Peace, Memorial Day, 2004

By the President of the United States of America

A Proclamation

For more than two centuries, Americans have been called to defend the founding ideals of our democracy. On Memorial Day, a grateful Nation remembers the proud patriots who made the ultimate sacrifice in defense of liberty's blessings.

From the opening battles of the American Revolution through the turmoil of the Civil War, to World War I, World War II, Korea, and Vietnam, to the Persian Gulf and today's operations in the war on terror in Afghanistan, Iraq, and around the world, the members of our military have built a tradition of honorable and faithful service. As we observe Memorial Day, we remember the more than one million Americans who have died to preserve our freedom, the more than 140,000 citizens who were prisoners of war, and all those who were declared missing in action. We also honor our veterans for their dedication to America and their sacrifice.

This year, we honor many heroes by observing the 60th anniversary of D-Day on the beaches of Normandy, and by dedicating the National World War II Memorial in Washington, D.C. In a radio address on June 6, 1944, President Franklin Roosevelt described these service members as the “pride of our Nation,” who struggled to preserve our civilization. The fallen from that fateful day and that war will always be remembered. They hold a cherished place in the history of the United States and in the memories of the people they liberated.

Today, all who wear the uniform of the United States are serving at a crucial hour in history, and each has answered a great call to serve our Nation on the front lines of freedom. As we continue to fight terrorism and promote peace and freedom, let us pray for the safety and strength of our troops, for God's blessing on them and their families, and for those who have lost loved ones.

On this Memorial Day, we honor all of our fallen soldiers, their commitment to our country, and their legacy of patriotism and sacrifice. By giving their lives in the cause of freedom, these heroes have protected and inspired all Americans.

In respect for their devotion to America, the Congress, by a joint resolution approved on May 11, 1950, as amended (64 Stat. 158), has requested the President to issue a proclamation calling on the people of the United States to observe each Memorial Day as a day of prayer for permanent peace and designating a period on that day when the people of the United States might unite in prayer. The Congress, by Public Law 106-579, has also designated the minute beginning at 3:00 p.m. local time on that day as a time for all Americans to observe the National Moment of Remembrance.

NOW, THEREFORE, I, GEORGE W. BUSH, President of the United States of America, do hereby proclaim Memorial Day, May 31, 2004, as a day of prayer for permanent peace, and I designate the hour beginning in each locality at 11:00 a.m. of that day as a time to unite in prayer. I also ask all Americans to observe the National Moment of Remembrance beginning at 3:00 p.m. local time on Memorial Day. I urge the press, radio, television, and all other media to participate in these observances.

I also request the Governors of the United States and the Commonwealth of Puerto Rico, and the appropriate officials of all units of government, to direct that the flag be flown at half-staff until noon on this Memorial Day on all buildings, grounds, and naval vessels throughout the United States, and in all areas under its jurisdiction and control. I also request the people of the United States to display the flag at half-staff from their homes for the customary forenoon period.

IN WITNESS WHEREOF, I have hereunto set my hand this twenty-sixth day of May, in the year of our Lord two thousand four, and of the Independence of the United States of America the two hundred and twenty-eighth.

B

[FR Doc. 04-12403

Filed 5-27-04; 11:22 am]

Billing code 3195-01-P